DEPARTMENT OF COMMERCE

International Trade Administration

[A-580-841]

Structural Steel Beams From the Republic of Korea; Final Results of Antidumping Duty Administrative Review

AGENCY: Import Administration, International Trade Administration, Department of Commerce.

ACTION: Notice of final results of antidumping duty administrative review of structural steel beams from the Republic of Korea.

SUMMARY: On September 11, 2002, the Department of Commerce (“the Department”) published in the Federal Register the preliminary results of its administrative review of the antidumping duty order on structural steel beams from the Republic of Korea (67 FR 57574). This review covers imports of subject merchandise from INI Steel Company (“INI”). The period of review (“POR”) is February 11, 2000 through July 31, 2001.

Based on our analysis of the comments received, we have made changes in the margin calculations. Therefore, the final results differ from the preliminary results of review. The final weighted-average dumping margin for INI is listed below in the section entitled “Final Results of the Review.”

EFFECTIVE DATE: January 17, 2003.

FOR FURTHER INFORMATION CONTACT: Stephen Bailey or Robert Bolling, Import Administration, International Trade Administration, U.S. Department of Commerce, 14th and Constitution Avenue, N.W., Washington, D.C. 20230; telephone: (202) 482-1102 or (202) 482-3434, respectively.

SUPPLEMENTARY INFORMATION:

Background

On September 11, 2002, the Department published its preliminary results of Structural Steel Beams From the Republic of Korea: Preliminary Results of Antidumping Duty Administrative Review for Structural Steel Beams From the Republic of Korea, 67 FR 57574 (September 11, 2002) (“Preliminary Results”). In the Preliminary Results, we stated that we would seek additional information related to INI and its affiliation with Hyundai U.S.A. in order to, inter alia, understand M. K. Jung's control over INI and that we would allow interested parties to comment on this new information before making a final determination. On September 20, 2002, the Department issued a supplemental questionnaire requesting additional information on corporate structure and affiliation. On October 9, 2002, INI filed its supplemental questionnaire response. On October 18, 2002, petitioners (Nucor Corp., Nucor-Yamato Steel Co., TXI-Chaparral Steel Co.) filed comments and factual information on INI's October 9, 2002, response.

We invited parties to comment on these preliminary results. We received written comments on October 30, 2002, from petitioners and INI. On November 6, 2002, we received rebuttal comments from petitioners and INI. We have now completed the administrative review in accordance with section 751 of the Act.

Scope of the Review

The products covered by this investigation are doubly-symmetric shapes, whether hot- or cold-rolled, drawn, extruded, formed or finished, having at least one dimension of at least 80 mm (3.2 inches or more), whether of carbon or alloy (other than stainless) steel, and whether or not drilled, punched, notched, painted, coated or clad. These products include, but are not limited to, wide-flange beams (“W” shapes), bearing piles (“HP” shapes), standard beams (“S” or “I” shapes), and M-shapes.

All products that meet the physical and metallurgical descriptions provided above are within the scope of this investigation unless otherwise excluded. The following products are outside and/or specifically excluded from the scope of this investigation: structural steel beams greater than 400 pounds per linear foot or with a web or section height (also known as depth) over 40 inches.

The merchandise subject to this investigation is classified in the Harmonized Tariff Schedule of the United States (“HTSUS”) at subheadings: 7216.32.0000, 7216.33.0030, 7216.33.0060, 7216.33.0090, 7216.50.0000, 7216.61.0000, 7216.69.0000, 7216.91.0000, 7216.99.0000, 7228.70.3040, 7228.70.6000. Although the HTSUS subheadings are provided for convenience and Customs purposes, the written description of the merchandise is dispositive.

Analysis of Comments Received

All issues raised in the case and rebuttal briefs by parties to this administrative review are addressed in the “Issues and Decision Memorandum” (“Decision Memorandum”) from Joseph A. Spetrini, Deputy Assistant Secretary, Import Administration, to Faryar Shirzad, Assistant Secretary for Import Administration, dated January 9, 2003, which is hereby adopted by this notice. A list of the issues which parties have raised and to which we have responded, all of which are in the Decision Memorandum, is attached to this notice as an Appendix. Parties can find a complete discussion of all issues raised in this review and the corresponding recommendations in this public memorandum which is on file in the Central Records Unit, Room B-099 of the main Department building. In addition, a complete version of the Decision Memorandum can be accessed directly on the Web at http://ia.ita.doc.gov/. The paper copy and electronic version of the Decision Memorandum are identical in content.

Sales Below Cost

We disregarded sales below cost for INI during the course of the review. See Preliminary Results.

Changes Since the Preliminary Results

Based on our analysis of comments received, we have made changes in the margin calculations for INI. The changes to the margin calculations are listed below:

INI

• We revised INI's imputed credit expenses for its U.S. sales upward by the percentage difference between INI's U.S. dollar short-term interest rate and Hyundai U.S.A.'s U.S. dollar short-term interest rate. See Comment 3.

• We revised the adjustment to the imputed credit offset used to determine a portion of indirect selling expenses based on our determination to adjust INI's imputed credit expenses upward by the percentage difference between INI's and Hyundai U.S.A.'s U.S. dollar short-term interest rate. See Comment 3.

• We reversed our decision in the Preliminary Results and now determine that the verification report incorrectly stated that the entered value for a particular transaction was wrong. Therefore, for the final results, we modified our margin program and we did not reduce the entered value for this particular transaction. See Comment 4.

• We revised INI's gross unit price to include interest revenue instead of as an offset to direct expenses. See Comment 6.

Final Results of Review

We determine that the following percentage margin exists for the period February 11, 2000 through July 31, 2001:

Structural Steel Beams from Korea: Manufacturer/exporter/reseller | Structural Steel Beams from Korea: Margin (percent)
INI | 1.87

Assessment Rates

The Department will determine, and the Customs Service shall assess, antidumping duties on all appropriate entries. In accordance with 19 CFR 351.212(b)(1), we have calculated an exporter/importer (or customer)-specific assessment rate for merchandise subject to this review. The Department will issue appraisement instructions directly to the Customs Service within 15 days of publication of these final results of review. We will direct the Customs Service to assess the resulting assessment rates against the entered customs values for the subject merchandise on each of the importer's/customer's entries during the review period.

Cash Deposit Requirements

The following deposit requirements will be effective upon publication of this notice of final results of administrative review for all shipments of structural steel beams from the Republic of Korea entered, or withdrawn from warehouse, for consumption on or after the date of publication, as provided by section 751(a)(1) of the Act: (1) the cash deposit rate for each of the reviewed companies will be the rate listed in the final results of review (except that if the rate for a particular product is de minimis, i.e., less than 0.5 percent, no cash deposit will be required for that company) see 19 CFR 351.106(c)(1); (2) for previously investigated companies not listed above, the cash deposit rate will continue to be the company-specific rate published for the most recent period; (3) if the exporter is not a firm covered in this review, a prior review, or the original less than fair value (“LTFV”) investigation, but the manufacturer is, the cash deposit rate will be the rate established for the most recent period for the manufacturer of the merchandise; and (4) the cash deposit rate for all other manufacturers or exporters will continue to be the “all others” rate of 37.21 percent, which is the all others rate established in the LTFV investigation.

These deposit requirements shall remain in effect until publication of the final results of the next administrative review.

Notification of Interested Parties

This notice also serves as a final reminder to importers of their responsibility under 19 CFR 351.402(f)(2) to file a certificate regarding the reimbursement of antidumping duties or countervailing duties prior to liquidation of the relevant entries during this review period. Failure to comply with this requirement could result in the Secretary's presumption that reimbursement of the antidumping duties or countervailing duties occurred and the subsequent assessment of double antidumping duties or countervailing duties.

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this determination and notice in accordance with sections 751(a)(1) and 771(i) of the Act.

Dated: January 9, 2003.
Faryar Shirzad,
Assistant Secretary for Import Administration.

Appendix 1-- Issues In The Decsision Memorandum

Comment 1: Affiliation between INI and Hyundai U.S.A./Hyundai Corporation

Comment 2: Reimbursement Provisions when INI is both Exporter and Importer

Comment 3: Recalculation of U.S. Imputed Credit Expenses (for field CREDIT2U) Using Hyundai U.S.A.'s Interest Rate

Comment 4: Entered Value for Certain Observations

Comment 5: INI's Cost of Production

Comment 6: Interest Revenue on Home Market Sales

Comment 7: Payment Date Cap For Certain Sales After the Sale Date

Comment 8: Ministerial Error in the Draft Liquidation Instructions

Comment 9: Issuance of Automatic Liquidation Instructions for Non-reviewed Companies

[FR Doc. 03-1150 Filed 1-16-03; 8:45 am]

BILLING CODE 3510-DS-S